DEPARTMENT OF ENERGY

Federal Energy Regulatory Commission

[Docket No. RP00-587-001]

Paiute Pipeline Company; Notice of Compliance Filing

November 28, 2000.

Take notice that on November 24, 2000, Paiute Pipeline Company (Paiute) submitted a filing to comply with the Commission's order issued on October 27, 2000 in Docket Nos. RM96-1-014, et al. Paiute states that in its order the Commission accepted, subject to refund, Paiute's tariff filing in Docket No. RP00-587-000 to implement imbalance netting and trading, and directed Paiute to submit further information regarding its imposition of transportation charges related to imbalance netting and trading. Paiute states that it has submitted the instant filing to comply with the Commission's directive.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30745 Filed 12-1-00; 8:45 am]

BILLING CODE 6717-01-M